DEPARTMENT OF AGRICULTURE

Agricultural Marketing Service

[Document Number AMS-FV-14-0040; FV-14-328]

United States Standards for Grades of Maple Sirup

AGENCY: Agricultural Marketing Service, USDA.

ACTION: Notice and request for comments.

SUMMARY: The Agricultural Marketing Service (AMS) of the Department of Agriculture (USDA) is soliciting public comments on a proposed revision to the United States Standards for Grades of Maple Sirup (Syrup). AMS received a petition from the International Maple Syrup Institute (IMSI) requesting a revision of the U.S. grade standards. IMSI stated it is interested in developing harmonized grade standards for maple syrup producers in the United States and Canada, and asked AMS to replace the current grade classification requirements with new color and flavor descriptors, and revise Grade A requirements to be free from damage. AMS is also proposing to change the spelling from “sirup” to the more commonly used term “syrup.” The proposed grade standards would revise the existing federal grade standards for maple sirup (syrup). The purpose of these proposed revisions would be to foster or assist in the development of new or expanded markets, and improve the marketing of maple syrup in the U.S. and internationally.

DATES: Comments must be submitted on or before July 7, 2014.

ADDRESSES: Written comments may be submitted via the Internet: http://www.regulations.gov; or email richard.peterson@ams.usda.gov; or by mail to Richard E. Peterson, Standardization Branch, Specialty Crops Inspection Division, Fruit and Vegetable Program, Agricultural Marketing Service, U.S. Department of Agriculture, 1400 Independence Avenue SW., Room 0709, South Building; STOP 0247, Washington, DC 20250; fax (202) 690-1527. All comments should reference the document number, date, and page number of this issue of the Federal Register. All comments will be posted without change, including any personal information provided. All comments submitted in response to this notice will be included in the public record and will be made available to the public on the Internet via http://www.regulations.gov. Comments will be made available for public inspection at the above address during regular business hours or can be viewed at: http://www.regulations.gov.

FOR FURTHER INFORMATION: Contact Richard E. Peterson, Agricultural Marketing Specialist, Specialty Crops Inspection Division, Fruit and Vegetable Program, Agricultural Marketing Service, U.S. Department of Agriculture, 1400 Independence Avenue SW., Room 0709, South Building; STOP 0247, Washington, DC 20250; telephone (202) 720-5021; fax (202) 690-1527; or, email richard.peterson@ams.usda.gov. Copies of the proposed revised grade standards are on the Internet at http://www.ams.usda.gov/scihome or http://www.regulations.gov.

SUPPLEMENTARY INFORMATION: AMS is proposing to revise the U.S. Standards for Grades of Maple Sirup using the procedures that appear in Title 7 part 36 of the Code of Federal Regulations (7 CFR part 36). Section 203(c) of the Agricultural Marketing Act of 1946 (Act) (7 U.S.C. 1621-1627), as amended, directs and authorizes the Secretary of Agriculture “to develop and improve standards of quality, condition, quantity, grade and packaging, and recommend and demonstrate such standards in order to encourage uniformity and consistency in commercial practices.” AMS is committed to carrying out this authority in a manner that facilitates the marketing of agricultural commodities and makes copies of official standards available upon request. The United States Standards for Grades of Fruits and Vegetables not connected with Federal Marketing Orders or U.S. Import Requirements, no longer appear in the Code of Federal Regulations, but are maintained by USDA, AMS, Fruit and Vegetable Program, and are available on the Internet at http://www.ams.usda.gov/scihome.

Background

Maple syrup is the liquid food derived by concentration and heat treatment of the sap of the maple tree (Acer). Maple syrup contains an abundant amount of naturally occurring minerals such as calcium, manganese, potassium and magnesium. Maple syrup is a natural source of beneficial antioxidants. The North American maple syrup industry sells an estimated $400 million of product annually, but the maple crop can vary significantly from year to year depending on weather and other factors. An example of this is reflected in the 2013 National Agricultural Statistics Service (NASS) report for 2013, the report states: Nationally, maple syrup production in 2013 totaled 3.25 million gallons, up 70 percent from 2012. In 2012, prevailing high temperatures limited sap flow. The number of taps is estimated at 10.6 million, 8 percent above the 2012 total of 9.77 million. Yield per tap is estimated to be 0.308 gallons, up 58 percent from the previous season's revised yield. All States showed an increase in production from the previous year. Cool temperatures in the early spring months delayed budding of maple trees which contributed to a longer season of sap flow than last year. The earliest sap flow reported was January 1 in New York. The latest sap flow reported to open the season was February 15 in Wisconsin. On average, the season lasted 37 days, compared with 24 days in 2012. The 2012 U.S. average price per gallon was $39.10, up $1.20 from the 2011 price of $37.90. The U.S. value of production, at $74.6 million for 2012, was down 30 percent from the previous season.

In 2002, IMSI, which represents maple producers, state governments, vendors, maple equipment manufacturers, organizations, and others in both Canada and the United States, established a committee to review existing regulations for pure maple syrup in Canada and the United States. The committee recommended establishing harmonized and standard definitions, grades, and nomenclature for pure maple syrup in the United States and Canada for the benefit of the maple industry. IMSI is seeking to eliminate inconsistent grade names and nomenclature, which vary from jurisdiction to jurisdiction, and emphasize the taste of the syrup by including flavor descriptors as well as new color descriptors on the labels for the different classes of syrup.

In September 2011, AMS received a petition to revise the U.S. Standards for Grades of Maple Sirup from IMSI. Petitioner IMSI stated that consumers currently face a patchwork of grading systems in the United States that are confusing, and fail to define the grades of maple syrup in meaningful terms. The petitioner stated its overall goal as providing uniform definitions of maple syrup in North America and the world marketplace. In addition to proposing modifications to the standards, as proposed by IMSI, AMS is proposing to change the spelling from “sirup” to the more commonly used term “syrup.”

The table below illustrates the variation of grade standards requirements among the maple producing states and Canada in 2013 and the proposed revision. The current U.S. grade standardsdo not recognize percent light transmittance (%Tc) as a means of ascertaining color, but at the state level, some states use this method to determine the color of maple syrup.

Comparison of 2013 USDA, State Standards, and Proposed Maple Syrup Grades and Nomenclature
Current U.S. standard ¹ | Vermont ² and Ohio ¹ | New Hampshire ¹ | New York ¹ | Maine ² | Canada all provinces ² | Proposed option ²
U.S Grade A Light Amber | Vermont Fancy ≥75.0% Tc Ohio Light | Grade A Light Amber | Grade A Light Amber | Grade A Light Amber ≥75.0% Tc | Canada No. 1 Extra Light ≥75.0% Tc | Grade A Golden Delicate Taste ≥75.0% Tc.
U.S. Grade A Medium Amber | Grade A Medium Amber 60.5-74.9% Tc | Grade A Medium Amber | Grade A Medium Amber | Grade A Medium Amber 60.5-74.9% Tc | Canada No. 1 Light 60.5-74.9% Tc | Grade A Amber Rich Taste 50-74.9% Tc.
U.S. Grade A Dark Amber | Grade A Dark Amber 44.0-60.4% Tc | Grade A Dark Amber | Grade A Dark Amber | Grade A Dark Amber 44.0-60.4% Tc | Canada No. 1 Medium 44.0-60.4% Tc | Grade A Dark Robust Taste 25-49.9% Tc.
U.S. Grade B For Reprocessing | Grade B 27.0-43.9% Tc | Grade B | Extra Dark for Cooking or Grade B for Reprocessing | Grade A Extra Dark Amber 27.0-43.9% Tc | Canada No. 2 Amber 27.0-43.9% Tc | Grade A Very Dark Strong Taste <25.0% Tc.
U.S. Grade B For Reprocessing | Commercial Grade <27.0% Tc | Grade B | Extra Dark for Cooking or Grade B for Reprocessing | Commercial Grade <27.0% Tc | Canada No. 3 Dark <27.0% Tc | Processing Grade any Color Class, any off-flavored syrup.
Substandard ³ | Substandard ³ | Substandard ³ | Substandard ³ | Substandard ³ | N/A | N/A.
¹ Color determined using USDA Color Standards for Maple Syrup.
² Percent light transmission measured with a spectrophotometer using matched square optical cells having a 10mm light path at a wavelength of 560 nm, with the color values expressed in percent of light transmission as compared to analytical reagent glycerol fixed at one hundred percent transmission. Percent transmission determined in this way is symbolized “%Tc”.
³ Fails Other Grade Requirements.

Currently, there are both Federal standards and separate state standards for maple syrup. The existing Federal standards and 2013 state standards are referenced in the above table. Vermont and New York have moved forward with new regulations for labeling maple syrup with full implementation on January 1, 2015.

The U.S. Standards for Grades of Maple Sirup, effective date January 14, 1980, are voluntary U.S. grade standards issued under the authority of the Act which provides for the development of official U.S. grades to designate different levels of quality. These grade standards are available for use by producers, suppliers, buyers and consumers. The standards serve as a basis for the inspection and grading of commodities by the Federal inspection service as provided under the Act. As in the case of other standards for grades of fresh and processed fruits, vegetables, and specialty crops, these standards are designed to facilitate marketing by providing a convenient basis for buying and selling maple syrup, and identification of product value.

While the petitioner's overall goal is to provide universal definitions, and standardized grading and labeling requirements for maple syrup in the North American and world marketplace, the revisions proposed in this action apply only to the voluntary U.S. standards for maple syrup authorized under the Act.

Under current U.S. standards, producers include a grade statement and color descriptor on labels of maple syrup. Syrup with a rich bold flavor is currently labeled as Grade B syrup, which is not intended for retail sale. However, consumers are increasingly seeking the darkest color class of maple syrup for cooking and table use. The proposed revisions to the U.S. standards would categorize Grade B syrup (containing no damage or off flavors/odors) as Grade A to allow the darker syrup to be sold at the retail level. According to the petitioner, a basic description of taste intensity on the product label would help consumers and ingredient users more consistently purchase syrup in accordance with their taste preferences and needs.

The proposed revision to the Grade A classification includes four color and flavor classes of maple syrup determined: (1) Using a spectrophotometer, which provides a measure of percent of light transmission through the syrup expressed as percent of light transmission and symbolized by %Tc values; or (2) by any method that provides equivalent results. The new grade classifications would be: U.S. Grade A Golden (delicate taste, ≥75.0%Tc), U.S. Grade A Amber (rich taste, 50.0-74.9%Tc), U.S. Grade A Dark (robust taste, 25.0-49.9%Tc), and U.S. Grade A Very Dark (strong taste, <25.0%Tc). The proposed grade standards would remove references to the USDA permanent glass color standards for maple sirup (syrup).

The petitioner also requested a limit to the brix range of 66 percent minimum to 68.9 percent maximum soluble solids. After submitting the petition, IMSI additionally requested that the standards include definitions for mold and yeast. AMS did not include separate definitions for mold and yeast, but the terms were incorporated within the definition of fermentation. The proposed revision to the Grade A classification includes, free from off flavors, odors, and fermentation, and is free from turbidity or sediment. Fermentation is caused by the presence of mold and yeast. Off flavor and odor can also indicate the presence of mold and yeast. Fermentation, off flavor and odor are classified as damage and are not permitted in Grade A. AMS retained the Substandard grade which was not included in the petition. The Substandard Grade allows a category of products that are not fit for human consumption or do not meet the requirements for “Processing Grade.” Additional requests by the petitioner was establishing a maximum solids level at 68.9%, and using the term “Pure” maple syrup in the product description. AMS did not include this in the product definition, because it would not be consistent with the current Food and Drug Administration (FDA) standard of identity for maple syrup (21 CFR 168.140). However, the Brix limit is included in the Grade A classification.

AMS is also proposing to change the spelling of “sirup” to the more current commonly used term “syrup” to align it with the FDA standard of identity for Maple Syrup 21 CFR 168.140 (c) and commercial practices.

IMSI also requested that the standards include the flavor and color descriptors to be placed on the label. AMS is not moving forward with such requirements for flavor and color descriptors because such requirements would not be appropriate for inclusion in the U.S. grade standards.

The proposed revision would include a “Processing Grade,” a grade that does not meet the “U.S. Grade A” requirements as far as quality, may contain off flavors, may not be for retail sales, and may be used for reprocessing. Off flavors/odors may be defined as any specific and identifiable flavor or smell defect not normally found in good quality maple syrup. These off flavors may be related to natural factors such as, woody, buddy, or fermented flavors or due to production, handling, or storage, e.g., burnt, chemical, or mold. The “Processing Grade” in other respects, may have fairly good characteristic maple taste, be fairly free of damage, turbidity or cloudiness, and be fairly free from foreign material, such as pieces of bark, soot, dust, and dirt. Under the proposed revision the grade of a sample unit of maple syrup would be ascertained considering the factors of color, flavor, odor, damage, and turbidity or cloudiness.

USDA grades for maple syrup are not mandatory, but producers, processors and handlers/packers labeling maple syrup as a particular U.S. grade are responsible for the accuracy of that U.S. grade statement indicated, that the maple syrup meets the current Federal standards for that grade. Under the existing regulations governing the inspection and grading of processed fruits, vegetables, and miscellaneous products, 7 CFR 52.53 provides for the use of approved identification marks and paragraph (h) describes or lists prohibited uses of approved identification. Section 52.53(h) provides that, except for officially inspected or otherwise approved products (namely maple syrup and honey) no label or advertising material used upon, or in conjunction with, a processed product shall bear a brand name, trademark, product name, company name, or any other descriptive material as it relates or alludes to any official U.S. Department of Agriculture certificate of quality or loading, grade mark, grade statement (except honey and maple syrup which may bear such grade mark or statement), continuous inspection mark, continuous inspection statement, sampling mark or sampling statement or combinations of one or more of the above. Therefore, honey and maple syrup may bear official USDA grade marks without official inspection.

Commodities covered by U.S. grade standards must comply with all applicable Federal, state and local laws.

The official grade of a lot of maple syrup covered by these standards would be determined by the procedures set forth in the Regulations Governing Inspection and Certification of Processed Products, Thereof, and Certain Other Processed Food Products (7 CFR 52.1 to 52.83).

AMS is soliciting comment on the proposed United States Standards for Grades of Maple Sirup.

AMS is publishing this notice with a 60-day comment period.

Authority: 7 U.S.C. 1621-1627.

Dated: May 1, 2014.
Rex A. Barnes,
Associate Administrator, Agricultural Marketing Service.

[FR Doc. 2014-10372 Filed 5-6-14; 8:45 am]

BILLING CODE 3410-02-P